DEPARTMENT OF HEALTH AND HUMAN SERVICES

Food and Drug Administration

Pulmonary-Allergy Drug Advisory Committee; Cancellation

AGENCY: Food and Drug Administration, HHS.

ACTION: Notice.

SUMMARY: The meeting of the Pulmonary-Allergy Drugs Advisory Committee scheduled for February 20, 2008, is cancelled. This meeting was announced in the Federal Register of December 21, 2007 (72 FR 72737).

FOR FURTHER INFORMATION CONTACT: Teresa A. Watkins, Center for Drug Evaluation and Research (HFD-21), Food and Drug Administration, 5630 Fishers Lane (for express delivery, rm. 1093), Rockville, MD 20857, 301-827-7001, FAX: 301-827-6776, e-mail: Teresa.Watkins@fda.hhs.gov, or FDA Advisory Committee Information Line, 1-800-741-8138 (301-443-0572 in the Washington, DC area), code 3014512545. Please call the Information Line for up-to-date information on this meeting.

Dated: January 29, 2008.
Randall W. Lutter,
Deputy Commissioner for Policy.

[FR Doc. E8-1959 Filed 2-1-08; 8:45 am]

BILLING CODE 4160-01-S